DEPARTMENT OF STATE

[Public Notice 3899]

Modification of Description of “Territory of Afghanistan Controlled by the Taliban” in Executive Order 13129

Executive Order 13129 of July 4, 1999, blocks property and prohibits transactions with the Taliban. Under section 4(d) of this Order, the Secretary of State, in consultation with the Secretary of the Treasury, is authorized to modify the description of the term “territory of Afghanistan controlled by the Taliban.” Acting under the authority delegated to me by the Secretary of State in Delegation of Authority 235 of October 14, 1999, and in consultation with the Secretary of the Treasury, I hereby determine as of this date that the Taliban controls no territory within Afghanistan, and modify the description of the term “territory of Afghanistan controlled by the Taliban” to reflect that the Taliban controls no territory within Afghanistan.

This notice shall be published in the Federal Register.

Dated: January 24, 2002.
Richard L. Armitage,
Deputy Secretary of State, Department of State.

[FR Doc. 02-2244 Filed 1-25-02; 2:35 pm]

BILLING CODE 4710-07-P